DEPARTMENT OF TRANSPORTATION

Federal Aviation Administration

14 CFR Part 71

[Airspace Docket No. 99-ANE-92]

Establishment of Class E Airspace; Burlington, VT

AGENCY: Federal Aviation Administration (FAA), DOT.

ACTION: Direct final rule; correction; confirmation of effective date.

SUMMARY: This notice confirms the effective date of a direct final rule that establishes Class E airspace area at Burlington, VT (KBTV) to provide for adequate controlled airspace for aircraft executing instrument approaches to the Burlington International Airport at times when the Burlington Air Traffic Control Tower is closed. This action also corrects a typographical error in the docket number and changes the longitude and latitude of the Burlington International Airport to reflect North American Datum (NAD) 1983.

EFFECTIVE DATE: The direct final rule published at 64 FR 68008 is effective 0901 UTC, February 24, 2000.

FOR FURTHER INFORMATION CONTACT: David T. Bayley, Air Traffic Division, Airspace Branch, ANE-520.3, Federal Aviation Administration, 12 New England Executive Park, Burlington, MA 01803-5299; telephone (781) 238-7586; fax (781) 238-7596.

SUPPLEMENTARY INFORMATION: The FAA published this direct final rule with a request for comments in the Federal Register on December 6, 1999 (64 FR 68008). The FAA uses the direct final rulemaking procedure for a non-controversial rule where the FAA believes that there will be no adverse public comment. This direct final rule advised the public that no adverse comments were anticipated, and that unless a written adverse comment, or a written notice of intent to submit such an adverse comment, were received within the comment period, the regulation would become effective on February 24, 2000. No adverse comments were received, and thus this notice confirms that this direct final rule will become effective on that date.

This direct final rule also corrects the docket number for this action to 99-ANE-92. The docket number used for the publication of the direct final rule was previously used for another airspace action. That other action, however, was issued from FAA Headquarters, while this action was issued from the New England Region. Therefore, the FAA has determined that the error in the docket number caused no confusion to interested persons wishing to comment on this proposal and corrects the docket number in this action.

Lastly, the longitude and latitude coordinates published in the direct final rule must be updated to reflect North American Datum (NAD) 1983. The FAA has determined that neither of these corrections expands the scope of the direct final rule.

Correction to the Direct Final Rule

Accordingly, pursuant to the authority delegated to me, the establishment of Class E airspace at Burlington, VT as published in the Federal Register on December 6, 1999 (64 FR 68008), Federal Register document 99-31518: page 68009, column 2; and the description in FAA Order 7400.9G, dated September 1, 1999, and effective September 16, 1999, which is incorporated by reference in 14 CFR 71.7; are corrected to read as follows:

Subpart E—Class E Airspace

* * * * *

*

Paragraph 6002—Class E Airspace Areas Designated as Extending Upward From the Surface of the Earth

* * * * *

*

ANE VT E2 Burlington, VT [New]

Burlington International Airport, VT

(Lat. 44°28′23″ N, long. 73°09′01″ W.)

Within a 5-mile radius of Burlington International Airport. This Class E airspace is effective during the specific dates and times established in advance by a Notice to Airman. The effective dates and times will thereafter be continuously published in the Airport/Facility Directory.

* * * * *

Issued in Burlington, MA, on January 13, 2000.
William C. Yuknewicz,
Acting Manager, Air Traffic Division, New England Region.

[FR Doc. 00-1814 Filed 1-25-00 8:45 am]

BILLING CODE 4910-13-M